DEPARTMENT OF HOMELAND SECURITY

Coast Guard

33 CFR Part 117

[Docket No. USCG-2011-1071]

Drawbridge Operation Regulations; New Rochelle Harbor, New Rochelle, NY

AGENCY: Coast Guard, DHS.

ACTION: Notice of temporary deviation from regulations.

SUMMARY: The Commander, First Coast Guard District, has issued a temporary deviation from the regulation governing the operation of the Glen Island Bridge, mile 0.8, across New Rochelle Harbor at New Rochelle, New York. The deviation is necessary to facilitate bridge rehabilitation repairs. This deviation allows the bridge to remain in the closed position to facilitate bridge rehabilitation.

DATES: This deviation is effective from December 5, 2011 through March 30, 2012.

ADDRESSES: Documents mentioned in this preamble as being available in the docket are part of docket USCG-2011-1071 and are available online at http://www.regulations.gov, inserting USCG-2011-1071 in the “Keyword” and then clicking “Search”. They are also available for inspection or copying at the Docket Management Facility (M-30), U.S. Department of Transportation, West Building Ground Floor, Room W12-140, 1200 New Jersey Avenue SE., Washington, DC 20590, between 9 a.m. and 5 p.m., Monday through Friday, except Federal holidays.

FOR FURTHER INFORMATION CONTACT: If you have questions on this rule, call or email Ms. Judy Leung-Yee, Project Officer, First Coast Guard District, judy.k.leung-yee@uscg.mil, or telephone (212) 668-7165. If you have questions on viewing the docket, call Renee V. Wright, Program Manager, Docket Operations, telephone (202) 366-9826.

SUPPLEMENTARY INFORMATION:

The Glen Island Bridge, across New Rochelle Harbor, mile 0.8, at New Rochelle, New York, has a vertical clearance in the closed position of 13 feet at mean high water and 20 feet at mean low water. The drawbridge operation regulations are listed at 33 CFR 117.802.

The waterway users are recreational vessels of various sizes. During the winter months the bridge rarely opens since the recreational vessels that transit this waterway are normally in winter storage.

The owner of the bridge, Westchester County, requested a temporary deviation from the regulations to help facilitate rehabilitation repairs at the bridge.

Under this temporary deviation the Glen Island Bridge may remain in the closed position from December 5, 2011 through March 30, 2012. Vessels that can pass under the bridge in the closed position may do so at any time.

The Coast Guard believes that this temporary deviation should meet the reasonable needs of navigation because the recreational users that normally use this bridge are recreational vessels that do not operate during the winter months when this deviation will be in effect.

In accordance with 33 CFR 117.35(e), the bridge must return to its regular operating schedule immediately at the end of the designated time period. This deviation from the operating regulations is authorized under 33 CFR 117.35.

Dated: November 23, 2011.
Gary Kassof,
Bridge Program Manager, First Coast Guard District.

[FR Doc. 2011-31332 Filed 12-6-11; 8:45 am]

BILLING CODE 9110-04-P